FEDERAL MARITIME COMMISSION

Notice of Request for Additional Information

The Commission gives notice that it has formally requested that the parties to the below listed agreements provide additional information pursuant to 46 U.S.C. 40304(d). This action prevents the agreements from becoming effective as originally scheduled. Interested parties may file comments within fifteen (15) days after publication of this notice appears in the Federal Register.

Agreement No.: 201241.

Title: Tacoma Marine Terminal Operator Conference Agreement.

Parties: Husky Terminal and Stevedoring, Inc. and Washington United Terminals, Inc.

Agreement No.: 201242.

Title: Tacoma Marine Terminal Operator Cooperative Working Agreement.

Parties: Husky Terminal and Stevedoring, Inc. and Washington United Terminals, Inc.

By Order of the Federal Maritime Commission.
Dated: March 30, 2018.
Rachel Dickon,
Secretary.

[FR Doc. 2018-06889 Filed 4-3-18; 8:45 am]

BILLING CODE 6731-AA-P